DEPARTMENT OF COMMERCE

International Trade Administration

Environmental Technologies Trade Advisory Committee; Reestablishment of the Environmental Technologies Trade Advisory Committee (ETTAC) and Solicitation of Nominations for Membership

AGENCY: International Trade Administration, Department of Commerce.

ACTION: Notice of reestablishment of the Environmental Technologies Trade Advisory Committee (ETTAC) and solicitation of nominations for membership.

SUMMARY: Pursuant to the Export Enhancement Act of 1988, as amended, and in accordance with the Federal Advisory Committee Act, as amended, the Department of Commerce announces the reestablishment of the Environmental Technologies Trade Advisory Committee (ETTAC), as of August 12, 2022. The ETTAC was first chartered on May 31, 1994. The ETTAC serves as an advisory body to the Environmental Trade Working Group (ETWG) of the Trade Promotion Coordinating Committee (TPCC), reporting through the Secretary of Commerce in her capacity as Chair of the TPCC. The ETTAC advises on the development and administration of programs to expand U.S. exports of environmental technologies, goods, and services and products that comply with United States environmental, safety, and related requirements.

DATES: Nominations for membership must be received on or before 5:00 p.m. Eastern Daylight Time (EDT) on October 14, 2022.

ADDRESSES: Nominations may be emailed to Megan Hyndman, ETTAC Designated Federal Officer, Office of Energy & Environmental Industries, International Trade Administration, U.S. Department of Commerce, at Megan.Hyndman@trade.gov. Nominations must be submitted in either Microsoft Word or PDF format.

FOR FURTHER INFORMATION CONTACT: Megan Hyndman, Office of Energy & Environmental Industries, phone 202-843-2376; email Megan.Hyndman@trade.gov. The ETTAC Charter and other committee materials are posted online at http://trade.gov/ettac.

SUPPLEMENTARY INFORMATION: The Committee shall consist of approximately 35 members appointed by the Secretary in accordance with applicable Department of Commerce guidance and based on their ability to carry out the objectives of the Committee. Members shall represent U.S. environmental technologies manufacturing and services companies, U.S. trade associations, U.S. private sector organizations, States or associations representing the States, and other appropriate groups and interested individuals involved in the promotion of exports of environmental technologies products and services.

Members of the Committee are selected, in accordance with applicable Department of Commerce guidelines, based on their ability to carry out the objectives of the Committee as set forth in the Charter and in a manner that ensures that the Committee is balanced in terms of points of view, industry subsector, geography, and company size. The diverse membership of the Committee assures perspectives reflecting the full breadth of the Committee's responsibilities, and, where possible, the Department of Commerce will also consider the ethnic, racial, and gender diversity and various abilities of the United States population.

Members of the Committee serve at the pleasure of the Secretary from the date of appointment to the Committee to the date on which the Committee's charter terminates. Members of the Committee serve in a representative capacity presenting the views and interests of a U.S. entity or U.S. organization, as well as their particular subsector; they are, therefore, not Special Government Employees.

Members of the Committee must not be registered as foreign agents under the Foreign Agents Registration Act. No member may represent a company that is majority owned or controlled by a foreign government entity (or foreign government entities). Members of the Committee will not be compensated for their services or reimbursed for their travel expenses.

If you are interested in applying or nominating someone else to become a member of the Committee, please provide the following information:

(1) Sponsor letter on the company's, trade association's or organization's letterhead containing the name, title, and relevant contact information (including phone and email address) of the individual who is applying or being nominated;

(2) An affirmative statement that the nominee will be able to meet the expected time commitments of Committee work. Committee work includes (1) attending Committee meetings roughly four times per year (lasting one day each), including attending at least four Committee meetings in-person during the 2022-2024 Charter (including the first and last Committee meetings), (2) undertaking additional work outside of full committee meetings including subcommittee conference calls or meetings as needed, and (3) frequently drafting, preparing, or commenting on proposed recommendations to be evaluated at Committee meetings;

(3) Short biography of nominee, including credentials;

(4) Brief description of the company, trade association, or organization to be represented and its business activities; company size (number of employees and annual sales); and export markets served;

(5) An affirmative statement that the nominee meets all Committee eligibility requirements.

Please do not send company, trade association, or organization brochures or any other information.

See the ADDRESSES and DATES captions above for how and the deadline for submitting nominations.

Nominees selected for appointment to the Committee will be notified by email.

Man K. Cho,
Deputy Director, Office of Energy and Environmental Industries.

[FR Doc. 2022-18965 Filed 9-1-22; 8:45 am]

BILLING CODE 3510-DR-P